Presidential Determination No. 2004-23 of February 25, 2004

Determination Consistent with the Emergency Supplemental Appropriations Act for Defense and for the Reconstruction of Iraq and Afghanistan, 2004 (Public Law 108-106), to Make Available Assistance for Liberia

Memorandum for the Secretary of State[,] the Secretary of the Treasury[,] the Secretary of Defense[, and] the Administrator, United States Agency for International Development

Consistent with the authority vested in me by the Emergency Supplemental Appropriations Act for Defense and for the Reconstruction of Iraq and Afghanistan, 2004 (Public Law 108-106), under the heading “International Disaster and Famine Assistance,” I hereby determine that it is in the national interest of the United States and essential to efforts to reduce international terrorism to furnish $114 million in assistance for Liberia from funds made available under that heading.

The Secretary of State is authorized and directed to report this determination to the Congress and to arrange for its publication in the Federal Register.

B

THE WHITE HOUSE,

Washington, February 25, 2004.

[FR Doc. 04-4854

Filed 3-2-04; 8:45 am]

Billing code 4710-10-P